DEPARTMENT OF ENERGY

Federal Energy Regulatory Commission

Notice of Application Tendered for Filing With the Commission

October 23, 2002.

Take notice that the following hydroelectric application has been filed with the Commission and is available for public inspection.

a. Type of Application: Major Unconstructed Project.

b. Project No.: 12379-000.

c. Date filed: September 27, 2002.

d. Applicant: Lake Dorothy Hydro, Inc.

e. Name of Project: Lake Dorothy Hydroelectric Project.

f. Location: On 1,804 acres administered by the Tongass National Forest, at Lake Dorothy on Dorothy Creek, near Juneau, Alaska. Township 42S, Range 69E and 70E, Copper River Meridian.

g. Filed Pursuant to: Federal Power Act 16 U.S.C. 791 (a)-825 (r).

h. Applicant Contact: Mr. Corry V. Hildenbrand, President, Lake Dorothy Hydro, Inc., 5601 Tonsgard Court, Juneau, AK 99801-7201, (907) 463-6315; and Ms. Susan Tinney, Licensing Coordinator, S. Tinney Associates, Inc., P.O. Box 985, Lake City, CO 81235, (970) 944-1020.

i. FERC Contact: Michael H. Henry, E-mail—mike.henry@ferc.gov or telephone (503) 944-6762.

j. Cooperating agencies: We are asking Federal, state, local, and tribal agencies with jurisdiction and/or special expertise with respect to environmental issues to cooperate with us in the preparation of the environmental document. Agencies who would like to request cooperating status should follow the instructions for filing comments described in item k below.

k. Deadline for filing requests for cooperating agency status: December 7, 2002.

All documents (original and eight copies) should be filed with: Magalie R. Salas, Secretary, Federal Energy Regulatory Commission, 888 First Street, NE., Washington, DC 20426.

Requests for cooperating agency status may be filed electronically via the Internet in lieu of paper. The Commission strongly encourages electronic filings. See 18 CFR 385.2001(a)(1)(iii) and the instructions on the Commission's web site (http://www.ferc.gov) under the “e-Filing” link.

l. The application is not ready for environmental analysis at this time.

m. The Lake Dorothy Project would consist of: (1) a proposed lake tap of Lake Dorothy and 680-foot-long water transmission tunnel that would discharge water into Dorothy Creek between Lake Dorothy and Lieuy Lake. Water then flows out of Lieuy Lake into Bart Lake via the natural streambed between Lieuy and Bart Lakes, keeping Bart Lake at optimum levels for power generation; (2) a proposed lake tap of Bart Lake, 935-foot-long power tunnel, and 6,900-foot-long penstock from Bart Lake to a 14.3 megawatt surface powerhouse near tidewater; (3) 3.5 half miles of proposed overhead transmission line that would intertie with an existing overhead transmission line from the Snettisham Hydroelectric Project, which conveys power through a submarine cable across the Taku Inlet to Juneau, Alaska. The average annual generation is expected to be 74,500 megawatt hours. The proposed project facilities would be owned by the applicant.

n. A copy of the application is available for review at the Commission in the Public Reference Room or may be viewed on the Commission's website at http://www.ferc.gov using the “FERRIS” link. Enter the docket number excluding the last three digits in the docket number field to access the document. For assistance, call (202) 502-8222 or for TTY, (202) 208-1659. A copy is also available for inspection and reproduction at the address in item h above.

o. Procedural schedule: The application will be processed according to the following Hydro Licensing Schedule. Revisions to the schedule will be made as appropriate.

Issue Acceptance or Deficiency Letter December 2002

Notice soliciting final terms and conditions December 2002

Notice of the availability of the draft EA April 2003

Notice of the availability of the final EA June 2003

Ready for Commission's decision on the application September 2003

Linwood A. Watson, Jr.,
Deputy Secretary.

[FR Doc. 02-27454 Filed 10-28-02; 8:45 am]

BILLING CODE 6717-01-P